DEPARTMENT OF HEALTH AND HUMAN SERVICES

Administration for Children and Families

[CFDA Number: 93.623]

Announcement of the Intent to Award a Supplemental Grant to the National Safe Place Network in Louisville, KY

AGENCY: Family and Youth Services Bureau, ACYF, ACF, HHS.

ACTION: Notice.

SUMMARY: The Administration for Children and Families (ACF), Administration on Children, Youth and Families (ACYF), Family and Youth Services Bureau (FYSB) announces its intent to award a non-competitive supplemental grant in the amount of up to $310,000 to the National Safe Place Network in Louisville, KY, to support and expand the grantee's activities under their award for the Runaway and Homeless Youth Training and Technical Assistance Center (RHYTTAC).

DATES: The proposed supplement is intended to support costs for the period of September 30, 2016, through September 29, 2017.

FOR FURTHER INFORMATION CONTACT: Ana Cody, Family and Youth Services Bureau, 330 C Street SW., Washington, DC 20024. Telephone: 202-205-8418 Email: Ana.Cody@acf.hhs.gov.

SUPPLEMENTARY INFORMATION: The National Safe Place Network is the recipient agency of the RHYTTAC cooperative agreement that fulfills Section 342 of the Runaway and Homeless Youth (RHY) Act, which allows for grants to organizations to provide training and technical assistance to public and private entities that are eligible to receive grants under this title. The purpose of this agreement is for carrying out the programs, projects, or activities for which such grants are made. The original award was made as the result of a competition under ACF Funding Opportunity Announcement HHS-2012-ACF-ACYF-CY-0312.

The primary goal of the RHYTTAC program is to serve as a centralized, national Training and Technical Assistance (T&TA) resource for FYSB-funded RHY program grantees. Training and other resources are made available to assist grantees to improve the quality of their core services, build capacity to increase the number of youth served, and address the dynamic needs of the runaway and homeless youth population.

The total supplemental funding available for the proposed non-competitive award would allow for the allocation of $150,000 for T&TA to support 12 new Domestic Victims of Human Trafficking (DVHT) grantees and the allocation of $160,000 for T&TA to support 8 new Transitional Living Program (TLP) demonstration program grantees.

The supplemental funding will be used to provide each grantee in the DVHT program with an on-site T&TA visit by RHYTTAC to collect information from a Human Trafficking Specific Capacity Assessment. The assessment and on-site observations will be used to create individualized action plans for each grantee to direct RHYTTAC's work with them for the remainder of their projects. In addition, RHYTTAC will facilitate discussions with human trafficking experts and coordinate a peer-exchange meeting to encourage grantees to build a cohesive working group. It will operate as a unit to ensure that all programs are functioning from the same baseline performance level. The proposed funding also will support new approaches and strategies to better serve Lesbian, Gay, Bisexual, Transgender, and Questioning (LGBTQ) youth and youth who are “aging out” of foster care.

A new, non-competitive application will be solicited from the National Safe Place Network. The application will receive an objective review by a panel using criteria related to the program's approach, objectives, outcomes and need for assistance, organizational profile, and an assessment of the proposed budget and budget justification.

STATUTORY AUTHORITY: The RHY and FYSB grantee is authorized by the RHY Act, 42 U.S.C. 5701-5752, as most recently amended by the Reconnecting Homeless Youth Act of 2008, Pub. L.110-378, on October 8, 2008.

Mary M. Wayland,
Senior Grants Policy Specialist, Division of Grants Policy, Office of Administration, Administration for Children and Families.

[FR Doc. 2016-18502 Filed 8-3-16; 8:45 am]

BILLING CODE 4182-04-P